DEPARTMENT OF DEFENSE

Department of the Army, Corps of Engineers

33 CFR Part 276

[COE-2019-0006]

RIN 0710-AA95

Water Resources Policies and Authorities: Application of Section 134a of Public Law 94-587

AGENCY: U.S. Army Corps of Engineers, Department of Defense.

ACTION: Final rule.

SUMMARY: This final rule removes the U.S. Army Corps of Engineers' part regarding water resources policies and authorities. This part is obsolete as the regulation authority expired December 31, 1977. Therefore, this part can be removed from the Code of Federal Regulations (CFR).

DATES: This rule is effective on January 15, 2021.

ADDRESSES: Department of the Army, U.S. Army Corps of Engineers, ATTN: CECW-P (Ms. Amy Frantz), 441 G Street NW, Washington, DC 20314-1000.

FOR FURTHER INFORMATION CONTACT: Ms. Amy Frantz at (202) 761-0106 or by email at Amy.K.Frantz@usace.army.mil.

SUPPLEMENTARY INFORMATION: This final rule removes from the CFR 33 CFR part 276, Water Resources Policies and Authorities: Application of Section 134a of Public Law 94-587. The rule was initially published in the Federal Register on February 15, 1977 (42 FR 9175). The regulation authorized and directed implementation of a procedure for certification of a locally constructed flood control element/component that is compatible with a specific, potential Federal Project under study. Section 134a provided that local interests could proceed to construct such certified compatible improvements at local expense with the understanding that such improvements could be expected to be included in the scope of the Federal project, if later authorized, both for the purposes of analyzing the costs and benefits of the project and assessing the local participation in the costs of such project. Cost assignable to that part of the local improvement that would constitute an integral part of a prospective Federal plan would be eligible to be recommended for credit toward required local cooperation. It was published, at that time, in the Federal Register to aid public accessibility. The solicitation of public comment for this removal is unnecessary because the rule is obsolete. The regulation authority ceased to be in effect after December 31, 1977, in accordance with Section 134a of Public Law 94-587.

This rule removal is being conducted to reduce confusion for the public as well as for the Corps regarding a regulation that is no longer in use as the authority is no longer in effect. The removal of the regulation will ensure the Corps' regulations comply with current authorities. In an effort to reduce the number of regulations the Corps has promulgated, the removal of an obsolete regulation is appropriate. Because the regulation does not place a burden on the public, its removal does not provide a reduction in public burden or costs.

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 33 CFR Part 276

Flood control, Intergovernmental relations.

PART 276—[REMOVED]

Accordingly, for the reasons stated in the preamble and under the authority of 5 U.S.C. 301, the Corps removes 33 CFR part 276.

Approved by:
R.D. James,
Assistant Secretary of the Army (Civil Works).

[FR Doc. 2020-28130 Filed 1-14-21; 8:45 am]

BILLING CODE 3720-58-P